DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for Geographic Partnership Programs.

OMB Control Number: 0607-0795.

Form Number(s): Various.

Type of Request: Extension of a currently approved collection.

Burden Hours: 200,450.

Number of Respondents: 39,109.

Average Hours per Response: 15 hours on average.

Needs and Uses: The U.S. Census Bureau requests approval from the Office of Management and Budget (OMB) for a three year extension of the generic clearance called the Geographic Partnership Programs (GPPs) that covers a number of activities needed to update or conduct research on the Master Address File/Topologically Integrated Geographic Encoding and Referencing (MAF/TIGER) System. The information collected by these programs in cooperation with tribal, state, and local governments is essential to the mission of the Census Bureau and directly contributes to the successful outcome of censuses and surveys conducted by the Census Bureau. The generic clearance allows the Census Bureau to focus its limited resources on actual operational planning, development of procedures, and implementation of programs to update and improve the geographic and address information maintained in the MAF/TIGER System.

As part of this renewal request, we will follow the protocol of past generic clearances: We will submit clearance requests at least two weeks before the planned start of each activity that give more exact details, examples of forms and related materials, and final estimates of respondent burden. We also will file a year-end summary with OMB after the close of each fiscal year giving results of each activity conducted.

The following paragraphs describe the categories of activities to be included under the clearance.

Geographic Support System Initiative (GSS-I)—The GSS-I is an integrated program designed to improve address coverage, obtain continual spatial feature updates, and enhance the quality assessment and measurement for the MTDB. The GSS-I builds on the accomplishments of the last decade's MAF/TIGER Enhancement Program (the MTEP) which redesigned the MAF/TIGER Database (MTDB), improved the positional accuracy of TIGER spatial features, and emphasized quality measurement. The Census Bureau plans on a continual update process for the MAF/TIGER System throughout the decade to support Census Bureau surveys, including the American Community Survey. Major participants are the U.S. Census Bureau with tribal, state, and local governments. The Census Bureau will contact tribal, state, and local governments to obtain files containing their address and spatial data, to explore data exchange opportunities, and share best practices.

Redistricting Data Program—The 2010 Census Redistricting Data Program is established in accordance with the provisions of Title 13 U.S.C. 141(C) and provides the 50 States, the District of Columbia, and the Commonwealth of Puerto Rico the opportunity to specify the small geographic areas for which they wish to receive decennial census population totals for the purpose of reapportionment and redistricting. The law also requires that by April 1 of the year following the decennial census the Secretary of Commerce will furnish State officials or their designee(s) with population counts for standard census tabulation areas (e.g. counties, cities, census blocks, and Congressional districts) and if provided by the states, legislative districts and voting districts.

The Census Bureau will conduct Phase 4 and Phase 5 of the 2010 Census Redistricting Data Program. In Phase 4 of the 2010 Redistricting Data Program, states submit new plans for updated congressional and state legislative districts to re-tabulate the 2010 Census data to these new redistricted boundaries. This phase is scheduled for 2012 and into 2013. Changes to congressional and state legislative boundaries that might result from further redistricting will be collected in 2014 and in 2016. Phase 5 of the Redistricting Program is the evaluation of the program and the final recommendations for the 2020 Census.

School District Review Program (SDRP)—The Census Bureau creates special tabulations of decennial census data by school district geography. These tabulations provide detailed demographic characteristics of the nation's public school systems and offer one of the largest single sources of children's demographic characteristics currently available. Information is distributed through the National Center for Education Statistics (NCES).

The SDRP, conducted by the Census Bureau every two years on behalf of the Department of Education, is of vital importance for each state's allocation under Title I of the Elementary and Secondary Education Act as amended by the No Child Left Behind Act of 2001, Public Law 107-110. The school district information obtained through this program, along with the 2010 Census population and income data, current population estimates, and tabulations of administrative records data, are used in forming the Census Bureau's estimates of the number of children aged 5 through 17 in low-income families for each school district. These estimates of the number of children in low-income families residing within each school district are the basis of the Title 1 allocation for each school district.

The scope of the SDRP is for state officials to review the Census Bureau's current school district information and to provide the Census Bureau with updates and corrections to the school district names and Federal Local Education Agency (LEA) identification numbers, school district boundaries, and the grade ranges for which a school district is financially responsible. This includes updating unified, secondary, and elementary school districts.

The list above is not exhaustive of all activities that may be performed under this generic clearance. We will follow the approved procedure when submitting any additional activities not specifically listed here.

All activities described above directly support the Census Bureau's efforts to maintain its address and geographic database in partnership with tribal, state, and local governments nationwide. Because tribal, state, and local governments have current knowledge of, and data about, where housing growth and change are occurring in their jurisdictions, their input into the overall development of the address list for the Census Bureau makes a vital contribution. Similarly, those governments are in the best position to work with local geographic boundaries, and they benefit from accurate address and geographic data.

Affected Public: State, local or Tribal Governments.

Frequency: On occasion.

Respondent's Obligation: Voluntary.

Legal Authority: Title 13 United States Code, Sections 16, 141, and 193.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: April 6, 2012.
Glenna Mickelson,
Management Analyst, Office of the Chief Information Officer.

[FR Doc. 2012-8672 Filed 4-10-12; 8:45 am]

BILLING CODE 3510-07-P